DEPARTMENT OF ENERGY

Federal Energy Regulatory Commission

[Docket No. ER01-2460-002, et al.]

PSEG Lawrenceburg Energy Company LLC, et al.; Electric Rate and Corporate Filings

September 1, 2004.

The following filings have been made with the Commission. The filings are listed in ascending order within each docket classification.

1. PSEG Lawrenceburg Energy Company LLC and PSEG Waterford Energy LLC

[Docket Nos. ER01-2460-002 and ER01-2482-002]

Take notice that on August 30, 2004, PSEG Lawrenceburg Energy Company LLC (PSEG Lawrenceburg) and PSEG Waterford Energy LLC (PSEG Waterford) (collectively, the Applicants) submitted a compliance filing pursuant to the Commissions, orders in PSEG Lawrenceburg Energy Company LLC, Docket No. ER01-2460-000 (Letter Order issued August 16, 2001) and PSEG Waterford Energy LLC, Docket No. ER01-2482-000 (Letter Order issued August 23, 2001), and pursuant to Investigation of Terms and Conditions of Public Utility Market-Based Rate Authorizations, 105 FERC & 61,218 (2003). Applicants state that the compliance filing consists of an updated market power analysis and updated tariff sheets.

PSEG Lawrenceburg and PSEG Waterford state that copies of the filing were served on parties on the official service list in the above-captioned proceeding.

Comment Date: 5 p.m. eastern time on September 20, 2004.

2. Southern Company Services, Inc.

[Docket No. ER04-563-003]

Take notice that, on August 30, 2004, Southern Company Services, Inc. acting as agent for Alabama Power Company, Georgia Power Company, Gulf Power Company, Mississippi Power Company, and Savannah Electric and Power Company (collectively, Southern Companies), submitted a compliance filing, under protest, pursuant to the order of the Federal Energy Regulatory Commission dated July 29, 2004, in Docket No. ER04-563-000.

Southern Companies state that copies of the filing were served on parties on the official service list in the above-captioned proceeding.

Comment Date: 5 p.m. eastern time on September 20, 2004.

3. Tampa Electric Company

[Docket No. ER04-1156-000]

Take notice that on August 30, 2004, Tampa Electric Company (Tampa Electric) tendered for filing a notice of cancellation of the service agreement with Southern Company Services, Inc. (Southern) under Tampa Electric's Market-Based Sales Tariff. Tampa Electric proposes that the cancellation be made effective on October 11, 2004.

Tampa Electric states that copies of the filing have been served on Southern and the Florida Public Service Commission.

Comment Date: 5 p.m. eastern time on September 20, 2004.

4. New England Power Company

[Docket No. ER04-1158-000]

Take notice that on August 30, 2004, New England Power Company (NEP) submitted for filing a Third Revised Service Agreement No. 6 between NEP and its affiliate, Granite State Electric Company (Granite State), under NEP's FERC Electric Tariff, Original Volume No. 1 (Tariff No. 1). NEP and Granite State state that they are amending Service Agreement No. 6 to reflect the resolution of all issues associated with NEP's Reconciliation Reports for the years 2001, 2002, and 2003 governing Granite State's contract termination charges under Tariff No. 1.

NEP states that copies of this filing have been served on Granite State, the NHPUC and the New Hampshire Office of Consumer Advocate.

Comment Date: 5 p.m. eastern time on September 20, 2004.

5. Southern California Edison Company

[Docket No. ER04-1159-000]

Take notice that on August 30, 2004, Southern California Edison Company (SCE) submitted for filing changes to the facilities charges under agreements with numerous entities.

SCE states that each of the agreements provides that the monthly charge to recover the revenue requirement for the facilities at issue is based on the rate most recently adopted by the California Public Utilities Commission (CPUC) for application to SCE's retail electric customers for added facilities. SCE states that the purpose of this filing is to reflect in the agreements the revised rates for added facilities applicable to retail customers adopted in CPUC Decision 04-07-022 which are effective for service rendered on and after July 18, 2004.

SCE states that copies of the filing were served upon the Public Utilities Commission of the State of California and each affected jurisdictional customer.

Comment Date: 5 p.m. eastern time on September 20, 2004.

6. Midwest Independent Transmission System Operator, Inc., American Transmission Company, LLC

[Docket No. ER04-1160-000]

Take notice that on August 30, 2004, the Midwest Independent Transmission System Operator, Inc. (Midwest ISO) and American Transmission Company, LLC (ATCLLC) tendered for filing revisions to the Midwest ISO Open Access Transmission Tariff to revise the limitation of liability provisions. Applicants request an effective date of October 30, 2004.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region and in addition, the filing has been electronically posted on the Midwest ISO's Web site at http://www.midwestiso.org under the heading “Filings to FERC” for other interested parties in this matter. The Midwest ISO states it will provide hard copies to any interested parties upon request.

Comment Date: 5 p.m. eastern time on September 20, 2004.

7. Southern Company Services, Inc.

[Docket No. ER04-1161-000]

Take notice that on August 24, 2004, Southern Company Services, Inc. (SCS), on behalf of Alabama Power Company, Georgia Power Company, Gulf Power Company, Mississippi Power Company and Savannah Electric and Power Company (collectively Southern Companies), submitted a filing under section 205 of the Federal Power Act to propose revisions to Attachment J to the Southern Companies open access transmission tariff (FERC Electric Tariff, Fourth Revised Volume No. 5).

SCS states that a copy of this filing is posted on Southern Companies' OASIS for download by any person and upon request, Southern Companies will provide a copy of this filing to any such person.

Comment Date: 5 p.m. eastern time on September 14, 2004.

8. United States Department of Energy, Bonneville Power Administration

[Docket No. NJ04-5-000]

Take notice that on August 27, 2004, the Bonneville Power Administration submitted an unexecuted transmission service agreement with Westward Energy, LLC, with a request that the Commission find that the terms of the service agreement are just and reasonable and consistent with or superior to the requirements of Order No. 888, and permit such service agreement to go into effect as of September 1, 2004.

Comment Date: 5 p.m. eastern time on September 17, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2133 Filed 9-8-04; 8:45 am]

BILLING CODE 6717-01-P